DEPARTMENT OF THE INTERIOR

National Park Service

Notice of Intent to Repatriate Cultural Items: Luther College Anthropology Lab, Luther College, Decorah, IA

AGENCY: National Park Service, Interior.

ACTION: Notice.

Notice is here given in accordance with the Native American Graves Protection and Repatriation Act (NAGPRA), 25 U.S.C. 3005, of the intent to repatriate cultural items in the possession of the Luther College Anthropology Lab, Luther College, Decorah, IA, that meet the definition of “unassociated funerary objects” under 25 U.S.C. 3001. The cultural items were removed from Alamakee County, IA.

This notice is published as part of the National Park Service's administrative responsibilities under NAGPRA, 25 U.S.C. 3003 (d)(3). The determinations in this notice are the sole responsibility of the museum, institution, or Federal agency that has control of the cultural items. The National Park Service is not responsible for the determinations in this notice.

Luther College Anthropology Lab professional staff consulted with representatives of the Iowa Tribe of Kansas and Nebraska, Iowa Tribe of Oklahoma, and Otoe-Missouria Tribe of Indians, Oklahoma.

On October 10, 1997, human remains and associated funerary objects from the Flynn Burials (13AM43, also called 13AM43A, 13AM43B, and 13AM43C) and Malone Cemetery (13AM60), Alamakee County, IA, were published in a Notice of Inventory Completion by the Iowa Office of the State Archaeologist in the Federal Register (FR Doc. 97-26872, pages 53023-53025). The human remains were repatriated in November of 1997. In 2004, Luther College Anthropology Lab discovered 731 cultural items in their collection, which, according to excavation records, were cultural items from the Flynn Burials and Malone Cemetery.

The 731 cultural items are projectile points, scrapers, bifaces, preforms, stone tool and fragments, utilized blades, flakes and flake fragments, ground stone arrow shaft abraders, hammer stones, limestone pipe fragment, Catlinite fragment, celt blank or preform, piece of galena, un-modified spall (NCR), complete or partial Oneota vessels and sherds, bone arrow shaft straighteners, bone awl, bone pressure flaking tool, antler bracelet fragments, turkey tendons, swan bill, dog bones, modified fragment of unidentified bone, shell spoons, unmodified shell fragment, shell gorget, glass beads, rolled copper/brass beads and bracelets, copper ear spirals, iron file, iron knives, iron ring, iron spike/awls, iron fragments, fragments of cordage, bark fragments, and carbonized beans.

In September 1958, the Flynn Burials were exposed during road widening along Allamakee County Road A26, Allamakee County, IA. A minimum of three individuals and associated funerary objects were removed by Gavin Sampson. In November 1997, the three individuals were reburied without associated funerary objects following publication of the Notice of Inventory Completion on October 10, 1997. The 551 unassociated funerary objects are 357 copper/brass beads, 16 copper/brass bracelets, 2 copper/brass ear spirals, 1 metal spike/awl, 2 metal knives, 7 metal fragments, 1 nearly complete ceramic vessel, 5 ceramic sherds, 1 projectile point, 8 scrapers, 2 bifaces, 10 blades, 2 preforms, 1 unidentified chipped stone tool, 66 flakes and flake fragments, 1 hammer stone, 1 unmodified flint spall, 8 glass beads, 2 clam shell spoons, 1 unmodified clam shell, 1 bison rib shaft straightener, 25 turkey tendons, 1 swan bill, 16 antler bracelets, 1 modified bone, 4 fragments of cordage, and 9 fragments of bark.

In 1965 and 1966, excavations at the Malone Cemetery were conducted by Dr. Sampson after rooting pigs exposed human remains. Dr. Sampson's notes indicate that four, and possibly as many as seven individuals, were identified during the course of excavations. In November 1997, the human remains were reburied without associated funerary objects following publication of the Notice of Inventory Completion on October 10, 1997. The 180 unassociated funerary objects are 7 projectile points, 2 scrapers, 3 bifaces, 4 chipped stone tool fragments, 18 flakes, 2 ground stone shaft abraders, 1 hammer stone, 1 limestone pipe fragment, 1 catlinite fragment, 1 celt blank, 1 ground stone scraper/grainer, 1 piece of galena, 4 partial/reconstructed ceramic vessels, 4 ceramic sherds, 1 bone straightener, 1 bone awl, 1 bone flaking tool, 3 dog bones, 4 shell spoons, 1 shell gorget fragment, 4 glass beads, 4 rolled copper/brass beads, 2 copper/brass ear spirals, 1 metal file, 1 metal knife, 1 metal spike/awl, 1 metal ring, 5 bark fragments, and 100 carbonized beans.

Interments at the two sites date to the latter part of the Orr phase (circa A.D. 1640-1700). Archeological evidence, including the presence of European trade goods and prevalence of Oneota pottery to the exclusion of other types, indicate that the Oneota peoples occupied the two sites. The Oneota are Chiwere-Siouan speaking peoples. Oral tradition, coupled with historical documentation, suggest that the ancestral Oneota people are represented by the present-day Iowa Tribe of Nebraska and Kansas, Iowa Tribe of Oklahoma, and the Otoe-Missouria Tribe, Oklahoma.

Officials of the Luther College Anthropology Lab have determined that, pursuant to 25 U.S.C. 3001 (3)(B), the 731 cultural items are reasonably believed to have been placed with or near individual human remains at the time of death or later as part of the death rite or ceremony and are believed, by a preponderance of the evidence, to have been removed from specific burial sites of Native American individuals. Officials of the Luther College Anthropology Lab also have determined that, pursuant to 25 U.S.C. 3001 (2), there is a relationship of shared group identity that can be reasonably traced between the unassociated funerary objects and the Iowa Tribe of Kansas and Nebraska, Iowa Tribe of Oklahoma, and Otoe-Missouria Tribe of Indians, Oklahoma.

Representatives of any other Indian tribe that believes itself to be culturally affiliated with the unassociated funerary objects should contact Chad Landsman, Laboratory and Collections Manager, Luther College Anthropology Lab, Luther College, 700 College Drive, Decorah, IA 52101, telephone (563) 387-2156, before January 9, 2006. Repatriation of the unassociated funerary objects to the Iowa Tribe of Kansas and Nebraska may proceed after that date if no additional claimants come forward.

The Luther College Anthropology Lab is responsible for notifying the Iowa Tribe of Kansas and Nebraska, Iowa Tribe of Oklahoma, and Otoe-Missouria Tribe of Indians, Oklahoma that this notice has been published.

Dated: November 5, 2005.
Sherry Hutt,
Manager, National NAGPRA Program.

[FR Doc. 05-23865 Filed 12-8-05; 8:45 am]

BILLING CODE 4312-50-S